DEPARTMENT OF COMMERCE

Submission for OMB Review; Comment Request

The Department of Commerce has submitted to the Office of Management and Budget (OMB) for clearance the following proposal for collection of information under the provisions of the Paperwork Reduction Act (44 U.S.C. Chapter 35).

Agency: National Institute of Standards and Technology (NIST).

Title: BEES Please.

Form Number(s): None.

OMB Approval Number: 0693-0036.

Type of Review: Regular submission.

Burden Hours: 1,875.

Number of Respondents: 30.

Average Hours Per Response: 62.5.

Needs and Uses: BEES Please is a voluntary program to collect data from product manufacturers so that the environmental performance of their products may be evaluated scientifically using the BEES (Building for Environmental and Economic Sustainability) Program. BEES uses the environmental life-cycle assessment approach specified in the International Standards Organization 14040 series of standards. NIST will publish in BEES an aggregated version of the data collected from manufacturers that protects data confidentiality, subject to manufacturer's review and approval.

Affected Public: Business or for-profit organizations.

Frequency: Once.

Respondent's Obligation: Voluntary.

OMB Desk Officer: Jacqueline Zeiher, (202) 395-4638.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, Room 10202, New Executive Office Building, Washington, DC 20503.

Dated: August 11, 2004.
Gwellnar Banks,
Management Analyst, Office of the Chief Information.

[FR Doc. 04-18728 Filed 8-16-04; 8:45 am]

BILLING CODE 3510-13-P